DEPARTMENT OF COMMERCE

Patent and Trademark Office

[Docket No.: PTO-C-2024-0031]

Performance Review Board

AGENCY: United States Patent and Trademark Office, Commerce.

ACTION: Notice of revised board members.

SUMMARY: In conformance with the Civil Service Reform Act of 1978, the United States Patent and Trademark Office (USPTO) announces the appointment of persons to serve as members of its Performance Review Board (PRB). This is an update to the recently published Federal Register notice (published on July 16, 2024), to reflect a board member serving in the role of a new position as the Interim Chief Public Engagement Officer.

ADDRESSES: Office of Human Resources, USPTO, P.O. Box 1450, Alexandria, VA 22313-1450.

FOR FURTHER INFORMATION CONTACT: Lari B. Washington, Director, Human Capital Management, USPTO, at 571-272-5187.

SUPPLEMENTARY INFORMATION: The membership of the USPTO's PRB is as follows:

Derrick Brent, Chair, Deputy Under Secretary of Commerce for Intellectual Property and Deputy Director of the USPTO

Frederick W. Steckler, Vice Chair, Chief Administrative Officer, USPTO

Vaishali Udupa, Commissioner for Patents, USPTO

David S. Gooder, Commissioner for Trademarks, USPTO

Dennis J. Hoffman, Chief Financial Officer, USPTO

Henry J. Holcombe, Chief Information Officer, USPTO

David L. Berdan, General Counsel, USPTO

Scott D. Ewalt, Interim Chief Public Engagement Officer, USPTO

Sharon Israel, Chief Policy Officer and Director for International Affairs, USPTO

Gerard F. Rogers, Chief Administrative Trademark Judge, USPTO

Scott R. Boalick, Chief Administrative Patent Judge, USPTO

Bismarck Myrick, Director of the Office of Equal Employment Opportunity and Diversity, USPTO

Cara Duckworth, Chief Corporate Communications Officer, USPTO

Shirin Bidel-Niyat, Chief of Staff, USPTO

Alternates:

Robin Evans, Deputy Commissioner for Patents, USPTO

Amy Cotton, Deputy Commissioner for Trademark Examination Policy, USPTO

Katherine K. Vidal,
Under Secretary of Commerce for Intellectual Property and Director of the United States Patent and Trademark Office.

[FR Doc. 2024-23315 Filed 10-8-24; 8:45 am]

BILLING CODE 3510-16-P